DEPARTMENT OF ENERGY

Federal Energy Regulatory Commission

Combined Notice of Filings #1

Take notice that the Commission received the following electric corporate filings:

Docket Numbers: EC19-6-000.

Applicants: NRG REMA LLC, Keystone Power Pass-Through Holders LLC, Conemaugh Power Pass-Through Holders LLC.

Description: Amendment to October 9, 2018 Joint Application for Authorization Under Section 203 of the Federal Power Act, et al. of NRG REMA LLC, et al.

Filed Date: 10/15/18.

Accession Number: 20181015-5149.

Comments Due: 5 p.m. ET 11/14/18.

Take notice that the Commission received the following electric rate filings:

Docket Numbers: ER13-738-005; ER10-1186-008; ER10-1329-008; ER11-3097-009.

Applicants: DTE Electric Company, DTE Energy Trading, Inc., DTE Energy Supply, Inc., St. Paul Cogeneration, LLC.

Description: Supplement to June 18, 2018 Updated Market Power Analysis for the Central Region of the DTE MBR Entities.

Filed Date: 11/6/18.

Accession Number: 20181106-5073.

Comments Due: 5 p.m. ET 11/13/18.

Docket Numbers: ER18-1775-001.

Applicants: 64KT 8me LLC.

Description: Compliance filing: 64KT 8me LLC Notice of Non-Material Change in Status to be effective 11/8/2018.

Filed Date: 11/7/18.

Accession Number: 20181107-5050.

Comments Due: 5 p.m. ET 11/28/18.

Docket Numbers: ER19-298-000.

Applicants: PJM Interconnection, L.L.C.

Description: § 205(d) Rate Filing: Amendment to ISAs, SA Nos. 4682 and First Revised 4332; Queue No. AA1-139 to be effective 11/17/2017.

Filed Date: 11/6/18.

Accession Number: 20181106-5194.

Comments Due: 5 p.m. ET 11/27/18.

Docket Numbers: ER19-299-000.

Applicants: Southwest Power Pool, Inc.

Description: § 205(d) Rate Filing: 3435R1 Magnet Wind Farm GIA to be effective 10/9/2018.

Filed Date: 11/7/18.

Accession Number: 20181107-5000.

Comments Due: 5 p.m. ET 11/28/18.

Docket Numbers: ER19-300-000.

Applicants: Alabama Power Company.

Description: § 205(d) Rate Filing: Hancock County Solar Project LGIA Filing to be effective 10/24/2018.

Filed Date: 11/7/18.

Accession Number: 20181107-5064.

Comments Due: 5 p.m. ET 11/28/18.

Docket Numbers: ER19-301-000.

Applicants: Midcontinent Independent System Operator, Inc.

Description: § 205(d) Rate Filing: 2018-11-07_SA 3206 Dakota Range I & II-OTP MPFCA (J436 J437 Hankinson Ellendale) to be effective 1/7/2019.

Filed Date: 11/7/18.

Accession Number: 20181107-5096.

Comments Due: 5 p.m. ET 11/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 7, 2018.
Nathaniel J. Davis, Sr.,
Deputy Secretary.

[FR Doc. 2018-24779 Filed 11-13-18; 8:45 am]

BILLING CODE 6717-01-P